DEPARTMENT OF HOMELAND SECURITY

Federal Emergency Management Agency

44 CFR Part 67

[Docket No. FEMA-P-7699]

Proposed Flood Elevation Determinations

AGENCY: Federal Emergency Management Agency, Emergency Preparedness and Response Directorate, Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and record keeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4

2. The tables published under the authority of § 67.4 are proposed to be amended as follows:

State | City/town/county | Source of flooding | Location | #Depth in feet above ground ◆Elevation in feet ◆ (NAVD): Existing | #Depth in feet above ground ◆Elevation in feet ◆ (NAVD): Modified
NM | Silver City (Town) Grant County | Central Arroyo | At the confluence with Maude's Creek | None | ◆6,013
|  |  | Approximately 7,770 feet upstream of the confluence with Maude's Creek | None | ◆6,193
|  | Cottonwood Creek | Approximately 800 feet upstream of the confluence with Silva Creek | None | ◆5,953
|  |  | Approximately 190 feet upstream of Cain Drive | None | ◆6,067
|  | Maude's Creek | Approximately 210 feet downstream of U.S. Route 180 | ◆5,997 | ◆6,000
|  |  | Approximately 6,100 feet upstream of U.S. Route 180 | None | ◆6,125
|  | Pinos Altos Creek | Approximately 1,200 feet upstream of 32nd Street | ◆6,040 | ◆6,042
|  |  | Approximately 3,770 feet upstream of confluence of Tributary 8 to Pinos Altos Creek | None | ◆6,141
|  | Tributary 2 to Maude's Creek (Lower to Reach) | Approximately 16,260 feet upstream of the confluence with Maude's Creek | None | ◆5,853
|  |  | Approximately 17,340 feet upstream of the confluence with Maude's Creek | None | ◆5,868
|  | Tributary 2 to Maude's Creek (Upper Reach) | Approximately 590 feet upstream of U.S. Route 180 | None | ◆6,047
|  |  | Approximately 5,020 feet upstream of 32nd Street Bypass | None | ◆6,227
|  | Tributary 8 to Pinos Altos Creek | At the confluence with Pinos Altos Creek | None | ◆6,053
|  |  | Approximately 1,310 feet upstream of 40th Street | None | ◆6,145
Maps are available for inspection at the City Annex Building, 1211 North Hudson Street, Silver City, New Mexico.
Send comments to The Honorable Terry Fortenberry, Mayor, Town of Silver City, 101 West Broadway, Silver City, New Mexico 88062-1188.
OH | Findlay (City) Hancock County | Blanchard River | Approximately 70 feet upstream of Central Parkway | ◆779 | ◆778
|  |  | Approximately 1,120 feet upstream of the confluence of Rush Creek | ◆783 | ◆781
|  | Eage Creek | At the confluence with Blanchard River | ◆779 | ◆778
|  |  | Approximately 110 feet upstream of Highway 68 | ◆794 | ◆792
|  | Eagle Creek Overflow | At the confluence Lye Creek | N/A | ◆779
|  |  | Approximately 1,250 feet upstream of Blanchard Avenue | N/A | ◆780
|  | Rush Creek | At the confluence with Blanchard River | ◆782 | ◆781
|  |  | Approximately 3,570 feet upstream of the confluence with Blanchard River | ◆782 | ◆781
Maps are available for inspection at the Community Map Repository, City of Findlay, Municipal Building, Room 306, 318 Dorney Plaza, Findlay, Ohio.
Send comments to The Honorable Anthony P. Iriti, Mayor, City of Findlay, Municipal Building, Room 310, 318 Dorney Plaza, Findlay, Ohio 45840.
TX | Lufkin (City) Angelina County | Biloxi Creek North Tributary | Approximately 2,860 feet downstream of State Highway 287 | None | ◆306
|  |  | Approximately 210 feet upstream of State Highway 287 | None | ◆329
|  | Biloxi Creek South Tributary | Approximately 640 feet downstream of Lemans Drive | None | ◆303
|  |  | Approximately 1,660 feet upstream of Lemans Drive | None | ◆319
|  | Cedar Creek | At Gobblers Knob Road | ◆237 | ◆238
|  |  | Approximately 100 upstream of Union Pacific Railroad | None | ◆299
|  | Cedar Creek North Tributary | At confluence with Cedar Creek | ◆277 | ◆276
|  |  | Approximately 50 feet upstream of Lotus Lane | None | ◆286
|  | Cedar Creek South Tributary | At confluence with Cedar Creek | ◆254 | ◆253
|  |  | Approximately 1,350 feet upstream of Berry Road | None | ◆287
|  | Cedar Creek Tributary 3 | At confluence with Cedar Creek | ◆237 | ◆240
|  |  | Approximately 80 feet upstream of Live Oak Lane | None | ◆266
|  | One Eye Creek | Approximately 2,120 feet downstream of Bartmess Drive | None | ◆289
|  |  | Approximately 3,900 feet upstream of Bartmess Drive | None | ◆309
|  | Shirley Creek | Approximately 7,350 feet upstream of the confluence with Paper Mill Creek | None | ◆232
|  |  | Approximately 50 feet upstream of Trenton Street | None | ◆297
|  | Shirley Creek Tributary 2 | At the confluence with Shirley Creek | ◆259 | ◆260
|  |  | Approximately 1,600 feet upstream of State Highway 237 | None | ◆310
|  | Shriely Creek Tributary 2 East Branch | At confluence with Shirely Creek Tributary 2 | None | ◆277
|  |  | Approximately 970 feet upstream of Freeman Street | None | ◆297
Maps are available for inspection at City Hall, 300 Shepherd Street, Lufkin, Texas.
Send comments to The Honorable Louis A. Bronaugh, Mayor, City of Lufkin, 300 Shepherd Street, Lufkin, Texas 75902.

(Catalog of Federal Domestic Assistance No. 83.100, “Flood Insurance.”)

Dated: August 30, 2005.
David I. Maurstad,
Acting Director, Mitigation Division, Emergency Preparedness and Response Directorate.

[FR Doc. 05-17623 Filed 9-2-05; 8:45 am]

BILLING CODE 9110-12-P